ENVIRONMENTAL PROTECTION AGENCY

40 CFR Part 52

[EPA-R06-OAR-2021-0539; FRL-12282-03-R6]

Air Quality State Implementation Plans; Partial Approval, Partial Disapproval and Promulgation; Texas; Regional Haze; Extension of Comment Period

AGENCY: Environmental Protection Agency (EPA).

ACTION: Proposed rule; extension of comment period.

SUMMARY: The Environmental Protection Agency (EPA) is extending the comment period for the proposed rule “Air Quality State Implementation Plans; Partial Approval, Partial Disapproval and Promulgation; Texas; Regional Haze” that was published on October 15, 2024. The proposal provided for a public comment period ending November 14, 2024. In response to requests for additional time to develop and submit comments on the proposed rulemaking, the EPA is extending the comment period to December 3, 2024.

DATES: The comment period for the proposed rule published on October 15, 2024, at 89 FR 83338 is extended. Comments must be received on or before December 3, 2024.

ADDRESSES: Submit your comments, identified by Docket No. EPA-R06-OAR-2021-0539, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Jennifer Huser, EPA Region 6 Office, 214-665-7347, huser.jennifer@epa.gov. We encourage the public to submit comments via https://www.regulations.gov. Please call or email the contact listed above if you need alternative access to material indexed but not provided in the docket.

SUPPLEMENTARY INFORMATION: Throughout this document wherever “we,” “us,” or “our” is used, we mean the EPA.

On October 15, 2024, we published in the Federal Register “Air Quality State Implementation Plans; Partial Approval, Partial Disapproval and Promulgation; Texas; Regional Haze”, where we proposed to partially approve and partially disapprove the regional haze State implementation plan (SIP) revision submitted by Texas on July 20, 2021, under the Clean Air Act (CAA) and EPA's Regional Haze Rule (RHR) for the program's second implementation period. In response to requests for additional time to develop and submit comments on the proposed rulemaking, we have decided to extend the public comment period. The original deadline to submit comments was November 14, 2024. The comment period will now close on December 3, 2024. This action will allow interested persons additional time to prepare and submit comments on the proposed action listed above.

List of Subjects in 40 CFR Part 52

Environmental protection, Air pollution control, Incorporation by reference, Nitrogen dioxide, Ozone, Particulate matter, Sulfur oxides.

Authority: 42 U.S.C. 7401 et seq.

Dated: October 28, 2024.
David Garcia,
Director, Air and Radiation Division, Region 6.

[FR Doc. 2024-25452 Filed 10-31-24; 8:45 am]

BILLING CODE 6560-50-P